DEPARTMENT OF COMMERCE

International Trade Administration

[A-201-830]

Final Results of Changed Circumstances Review: Antidumping Duty Order on Carbon and Certain Alloy Steel Wire Rod From Mexico

AGENCY: Enforcement and Compliance, International Trade Administration, Department of Commerce.

SUMMARY: On October 4, 2017, the Department of Commerce (the Department) published its notice of initiation and preliminary results of a changed circumstances review (CCR) of the antidumping duty order on carbon and certain alloy steel wire rod (wire rod) from Mexico to determine whether ArcelorMittal Mexico, S.A. de C.V. (AMM) is the successor-in-interest to ArcelorMittal Las Truchas, S.A. de C.V. (AMLT). No interested parties submitted case briefs or requested a hearing with respect to the Department's notice of initiation and preliminary results. Therefore, based on the information on the record, we continue to determine that AMM is the successor-in-interest to ALMT.

DATES: Applicable November 16, 2017.

FOR FURTHER INFORMATION CONTACT: Keith Haynes, AD/CVD Operations, Office III, Enforcement and Compliance, International Trade Administration, U.S. Department of Commerce, 1401 Constitution Avenue NW., Washington, DC 20230; telephone: (202) 482-5139.

SUPPLEMENTARY INFORMATION:

Background

The Department published in the Federal Register the initiation and preliminary results of an expedited CCR on October 4, 2017, preliminarily finding that AMM is the successor-in-interest to AMLT.¹ In the Preliminary Results, we provided interested parties 30 days from the date of publication to submit case briefs or request a hearing. No interested parties submitted case briefs or requested a hearing.

¹ See Initiation and Preliminary Results of Changed Circumstances Review: Antidumping Duty Order on Carbon and Certain Alloy Steel Wire Rod from Mexico, 82 FR 46222 (October 4, 2017) (Preliminary Results).

Scope of the Order

The merchandise covered by the order is carbon and certain alloy steel wire rod. The product is currently classified under the Harmonized Tariff Schedule of the United States (HTSUS) item numbers 7213.91.3000, 7213.91.3010, 7213.91.3011, 7213.91.3015, 7213.91.3020, 7213.91.3090, 7213.91.3091, 7213.91.3092, 7213.91.3093, 7213.91.4500, 7213.91.4510, 7213.91.4590, 7213.91.6000, 7213.91.6010, 7213.91.6090, 7213.99.0030, 7213.99.0031, 7213.99.0038, 7213.99.0090, 7227.20.0000, 7227.20.0010, 7227.20.0020, 7227.20.0030, 7227.20.0080, 7227.20.0090, 7227.20.0095, 7227.90.6010, 7227.90.6020, 7227.90.6030, 7227.90.6035, 7227.90.6050, 7227.90.6051, 7227.90.6053, 7227.90.6058, 7227.90.6059, 7227.90.6080, and 7227.90.6085 of the HTSUS. Although the HTSUS numbers are provided for convenience and customs purposes, the written product description remains dispositive.²

² For a complete description of the scope of the order, see Memorandum from James Maeder, Senior Director performing the duties of Deputy Assistant Secretary for Antidumping and Countervailing Duty Operations, to Carole Showers, Executive Director, Office of Policy, performing the duties of the Deputy Assistant Secretary for Enforcement and Compliance, “Carbon and Certain Alloy Steel Wire Rod from Mexico Preliminary Decision Memorandum of Changed Circumstances Review,” dated September 28, 2017 (Preliminary Decision Memorandum).

Final Results of Changed Circumstances Review

Because no party submitted a case brief in response to the Department's Preliminary Results, and because the record contains no other information or evidence that calls into question the Preliminary Results, the Department continues to find that AMM is the successor-in-interest to AMLT, and is entitled to AMLT's cash deposit rate with respect to entries of merchandise subject to the antidumping duty order on wire rod from Mexico.³

³ For a complete discussion of the Department's findings, which remain unchanged in these final results and which are herein incorporated by reference and adopted by this notice, see, generally, Preliminary Results and Preliminary Decision Memorandum.

Instructions to U.S. Customs and Border Protection

Based on these final results, we will instruct U.S. Customs and Border Protection to suspend liquidation and collect estimated antidumping duties for all shipments of subject merchandise exported by AMM and entered, or withdrawn from warehouse, for consumption on or after the publication of this notice in the Federal Register at the current antidumping duty cash-deposit rate for AMLT (i.e., 2.59 percent). This cash deposit requirement shall remain in effect until further notice.

Notification to Interested Parties

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results in accordance with sections 751(b) and 777(i) of the Act, and 19 CFR 351.216.

Dated: November 13, 2017.
Gary Taverman,
Deputy Assistant Secretary for Antidumping and Countervailing Duty Operations, performing the non-exclusive functions and duties of the Assistant Secretary for Enforcement and Compliance.

[FR Doc. 2017-24865 Filed 11-15-17; 8:45 am]

BILLING CODE 3510-DS-P